DEPARTMENT OF TRANSPORTATION

Federal Highway Administration

Notice of Availability for a Joint Draft Environmental Impact Report/Environmental Impact Statement for the Last Chance Grade Permanent Restoration Project on U.S. Highway 101 in Del Norte County, California

AGENCY: Federal Highway Administration (FHWA), Department of Transportation (USDOT).

ACTION: Notice of availability (NOA) of a draft environmental impact report/environmental impact statement (Draft EIR/EIS) for the Last Chance Grade Permanent Restoration Project.

SUMMARY: The FHWA, on behalf of the California Department of Transportation (Caltrans), is issuing this notice to advise the public that a joint Draft EIR/EIS is available for review for the Last Chance Grade Permanent Restoration Project (project), a proposed roadway improvement project on U.S. Highway 101 in Del Norte County, California. A separate Notice of Availability of the joint Draft EIR/EIS has been issued by Caltrans to meet the requirements of the California Environmental Quality Act (CEQA).

DATES: This notice will be accompanied by a 60-day public comment period from December 15, 2023, to February 13, 2024. The deadline for public comments is 5:00 p.m. (PST) on February 13, 2024. Caltrans will be holding a Virtual Public Open House from 5:30 p.m. to 7:00 p.m. PST on January 24, 2024. The Virtual Open House link and a downloadable version of the Draft EIR/EIS can be found at the project website: www.lastchancegrade.com. Questions and comments during the virtual meeting will not be considered public comments on the Draft EIR/EIS. Public comments on the Draft EIR/EIS must be submitted in writing to the email or address listed below. Comments received in writing during the public comment period will become part of the project administrative record and will be addressed in the Final EIR/EIS, scheduled for Winter 2025.

The Draft EIR/EIS discloses the range of alternatives considered, those that were eliminated from further study, and the Build Alternatives being considered along with the No-Build Alternative. The Draft EIR/EIS details the public scoping process and provides a summary of the scoping comments received including information relative to the comments. The Draft EIR/EIS also discloses potential impacts, including cumulative impacts to environmental resources; avoidance and minimization measures to reduce potential impacts; and proposed mitigation measures to offset environmental impacts.

A public Notice of Availability for the Draft EIR/EIS will be printed in a local newspaper, a copy of which will also be available on the project website. In addition, notifications will be distributed to the public based on information collected during the Notice of Intent (NOI) public scoping process and on other previous outreach efforts. The newspaper ad, email notifications to interested parties, and project website will provide information on the Virtual Public Open House.

The public can submit formal comments on the Draft EIR/EIS through email at DEDcomments@lastchancegrade.com, or via USPS letter to P.O. Box 3700, Eureka, CA 95502-3700 with Attention to Steve Croteau, Senior Environmental Scientist.

To request the Draft EIR/EIS in alternative formats or alternative language translation services, please call or leave a voicemail message with Myles Cochrane, Public Information Officer, at (707) 498-4272.

ADDRESSES: The Draft EIR/EIS is available for review on the project website, www.lastchancegrade.com, and at the following locations:

• California Department of Transportation (Caltrans) District 1 Office, 1656 Union Street, Eureka, CA 95501 between 8:00 a.m. and 5:00 p.m.

• Main Library—Crescent City Branch, 190 Price Mall, Crescent City, CA 95531.

FOR FURTHER INFORMATION CONTACT: Jaime Matteoli, Project Manager, Caltrans District 1, P.O. Box 3700, Eureka, CA 95502-3700, telephone 707-498-0961, or email jaime.matteoli@dot.ca.gov.

SUPPLEMENTARY INFORMATION: Effective July 1, 2007, the FHWA assigned, and Caltrans assumed, environmental responsibilities for this project pursuant to 23 U.S.C. 327. Caltrans, as the assigned National Environmental Policy Act (NEPA) agency and CEQA lead agency, prepared a joint Draft EIR/EIS on a proposal for improvements along a portion of U.S. Highway 101 (U.S. 101) in Del Norte County, California known as “Last Chance Grade”.

Last Chance Grade is the 3.5-mile-long section of U.S. 101 (post miles [PMs] 12.7 to 16.5) located approximately 10 miles south of Crescent City. The project area is almost entirely within portions of Redwood National and State Parks.

The project would realign the highway in response to landslide and roadway failures which have caused damage for decades. The purpose of the project is to:

• Provide a more reliable connection.

• Reduce maintenance costs.

• Protect the economy, natural resources, and cultural resources.

Last Chance Grade is located in an area of geologic instability; there is a landslide complex that is approximately 3 miles long with more than 30 active landslides. This instability has required significant expenditures of tax dollars on emergency construction projects and maintenance activities to keep the highway open and safe. Between 1997 and 2021, landslide mitigation efforts, including retaining walls, drainage improvements, and roadway repairs, cost more than $85 million. There is no foreseeable end to such expenditures, and effects of climate change may exacerbate conditions. A long-term sustainable solution at Last Chance Grade is needed to address:

• Economic ramifications of a long-term failure and closure.

• Risk of delay/detour to traveling public.

• Increasing maintenance and emergency project costs.

• Increase in frequency and severity of large storm events caused by climate change.

Over the past several years, with input from numerous project partners, Caltrans has considered multiple alignment alternatives in seeking a long-term feasible and sustainable solution suitable for the unique geologic and natural features of the project area. As a result of these past alternatives screening processes, Caltrans has elected to move forward with the environmental review of two action alternatives. The Draft EIR/EIS evaluates either taking no action (No-Build Alternative) or proceeding with one of the two build alternatives (X and F).

Alternative X would involve reengineering and partially realigning a 1.6-mile-long section of the existing highway to minimize the risk of landslides. Main project components would include 1.6 miles of retaining walls along the roadway, an underground drainage system to help reduce landslide risk by capturing groundwater, and strategic eastward retreats from the existing roadway.

Alternative F would involve constructing a 1.1-mile-long tunnel east of the existing highway to avoid the most intense areas of known landslides and geologic instability. Main components would include a tunnel and associated portals, a bridge from the northern portal to reconnect to existing U.S. 101, and an on-site Operations and Maintenance Center (OMC) for tunnel support.

Notifications describing the proposed action and soliciting comments will be sent to the appropriate federal, state, participating agencies, tribal governments, and local agencies, and to private organizations and citizens who have previously expressed or are known to have interest in this proposal.

To ensure interested parties have the opportunity to comment and provide suggestions on the full range of potential issues related to this proposed action, the Draft EIR/EIS will be available for public and agency review and comment over a 60-day circulation period, starting on December 15, 2023. Caltrans will respond in the Final EIR/EIS (expected in winter 2025) to all the public comments received in writing during the public comment period.

Following circulation for public review and consideration of comments received, Caltrans will issue a combined Final EIR/EIS and Record of Decision document unless statutory criteria or practicability considerations preclude such issuance.

Comments or questions concerning this proposed action and the Draft EIR/EIS should be directed to Caltrans at the address indicated above (under Further Information).

(Catalog of Federal Domestic Assistance Program Number 20.205, Highway Planning and Construction. The regulations implementing Executive Order 12372 regarding intergovernmental consultation on Federal programs and activities apply to this program.)

Antonio Johnson,
Director of Planning, Environment and Right of Way, Federal Highway Administration, California Division.

[FR Doc. 2023-27287 Filed 12-12-23; 8:45 am]

BILLING CODE 4910-RY-P